DEPARTMENT OF TRANSPORTATION

Federal Aviation Administration

14 CFR Part 39

[Docket No. FAA-2013-0634; Directorate Identifier 2012-SW-023-AD]

RIN 2120-AA64

Airworthiness Directives; Eurocopter Deutschland GmbH Helicopters

AGENCY: Federal Aviation Administration (FAA), DOT.

ACTION: Notice of proposed rulemaking (NPRM).

SUMMARY: We propose to adopt a new airworthiness directive (AD) for certain Eurocopter Deutschland GmbH (Eurocopter) Model EC135P2+ and EC135T2+ helicopters. This proposed AD would require inspecting the mechanical air conditioning system compressor bearing block upper bearing (upper bearing) for corrosion, leaking grease, condensation, or water. This proposed AD is prompted by metallic debris from an upper bearing found in the air inlet areas of both engines in a Model EC135P2+ helicopter. The proposed actions are intended to prevent metallic debris from damaging the engine, causing loss of engine power, and subsequent loss of helicopter control.

DATES: We must receive comments on this proposed AD by September 23, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Matt Wilbanks, Aviation Safety Engineer, Regulations and Policy Group, Rotorcraft Directorate, FAA, 2601 Meacham Blvd., Fort Worth, Texas 76137; telephone (817) 222-5110; email matt.wilbanks@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0111R1, dated September 22, 2011, which revises EASA AD No. 2011-0111, dated June 10, 2011, to correct an unsafe condition for certain Model EC135P2+ and EC135T2+ helicopters. EASA advises that metallic debris was found within the air inlet area of both engines during a pre-flight check of an EC135 P2+ helicopter. A subsequent investigation showed that the debris came from the bearing cage of a ball bearing in the air conditioning compressor bearing block, and it damaged the compressor stage of one of the engines to such an extent that the engine had to be overhauled, according to EASA.

EASA notes that as this mechanical air conditioning system was introduced recently on the production line, only a limited number of helicopters are affected. But if not detected and corrected, this unsafe condition “could lead to further cases of bearing case failure, possibly resulting in loss of engine power and reduced control of the helicopter,” EASA reports. EASA AD No. 2011-0111R1 requires repetitive inspections of the affected ball bearing for indications that the upper bearing is failing and, depending on the findings, deactivating the air conditioning system.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information

Eurocopter issued Emergency Alert Service Bulletin (EASB) EC 135-21A-013, Revision 0, dated June 6, 2011, to provide instructions for inspections after debris from the bearing cage of a ball bearing was found in the air inlet area of both engines of an EC135P2+ helicopter. Eurocopter followed the EASB with Service Bulletin (SB) EC 135-21-015, Revision 0, dated July 12, 2011, to introduce the replacement of the affected compressor bearing block with a “new, improved” compressor bearing block.

Proposed AD Requirements

This proposed AD would require, within 25 hours time-in-service (TIS), visually inspecting the upper bearing for corrosion, leaking grease, condensation or water—indications that the upper bearing is failing. If only condensation exists, the proposed AD would require repeating the inspection at intervals not to exceed 25 hours TIS. If none of those conditions exists, the proposed AD would require repeating the inspection at intervals not to exceed 100 hours TIS. If there is water, corrosion, or leaking grease, this proposed AD would require deactivating the air conditioning system.

Costs of Compliance

We estimate that this proposed AD would affect 1 helicopter of U.S. Registry and that labor costs would average $85 per work-hour. Based on these estimates, we expect the following costs:

• Inspecting the upper bearing for corrosion, leaking grease, condensation or water would require 4 work-hours for a labor cost of $340. No parts would be needed.

• Deactivating the air conditioning system would require 6 work-hours for a labor cost of $510. No parts would be needed.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter Deutschland GmbH Helicopters: Docket No. FAA-2013-0634; Directorate Identifier 2012-SW-023-AD.

(a) Applicability

This AD applies to Model EC135P2+ and EC135T2+ helicopters, serial numbers 870, 872, 873, 879, 883, 884, 888, 893, 900, 905, 911, 914, 916, 917, 923, and 926, with a mechanical air conditioning system compressor bearing block upper bearing (upper bearing) part number L210M1872105 installed, certificated in any category.

(b) Unsafe Condition

This AD defines the unsafe condition as metallic debris in the engine inlet areas. This condition could result in failure of an engine, loss of engine power, and subsequent loss of helicopter control.

(c) Comments Due Date.

We must receive comments by September 23, 2013.

(d) Compliance

You are responsible for performing each action required by this AD within the specified compliance time unless accomplished previously.

(e) Required Actions

Within 25 hours time-in-service (TIS):

(1) Visually inspect the upper bearing for corrosion, leaking grease, condensation, or water.

(2) If there is condensation but no corrosion, leaking grease, or water, repeat this inspection at intervals not to exceed 25 hours TIS.

(3) If there is no corrosion, leaking grease, condensation, or water, repeat this inspection at intervals not to exceed 100 hours TIS.

(4) If there is corrosion, leaking grease, or water, deactivate the air conditioning system in accordance with the Accomplishment Instructions, Section 3.B.3, Paragraphs (a) through (ai) of Eurocopter Emergency Alert Service Bulletin No. EC 135-21A-013, dated June 6, 2011.

(f) Alternative Methods of Compliance (AMOCs)

(1) The Manager, Safety Management Group, FAA, may approve AMOCs for this AD. Send your proposal to: Matt Wilbanks, Aviation Safety Engineer, Regulations and Policy Group, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2011-0111R1, dated September 22, 2011. You may view a copy of the EASA AD in the AD Docket on the Internet at http://www.regulations.gov.

(h) Subject

Joint Aircraft Service Component (JASC) Code: 2100, air conditioning system.

Issued in Fort Worth, Texas, on July 11, 2013.
Kim Smith,
Directorate Manager, Rotorcraft Directorate, Aircraft Certification Service.

[FR Doc. 2013-17632 Filed 7-22-13; 8:45 am]

BILLING CODE 4910-13-P